ENVIRONMENTAL PROTECTION AGENCY

[Docket: OW-2004-0039; FRL-7860-3]

Promoting Water Conservation in Multi-Family Housing

AGENCY: Environmental Protection Agency (EPA).

ACTION: Request for comment.

SUMMARY: The Environmental Protection Agency (EPA) is seeking public comment on water metering and billing systems that promote full cost and conservation pricing to achieve water conservation within the drinking water industry. In addition, EPA seeks information on ways that residential and commercial water users, and drinking water utilities can reduce water use and promote water conservation.

DATES: Comments must be received on or before March 14, 2005.

ADDRESSES: Submit your comments, identified by Docket ID No.OW-2004-0039, by one of the following methods:

• Federal eRulemaking Portal: http://www.regulations.gov. Follow the on-line instructions for submitting comments.

• Agency Web site: http://www.epa.gov/edocket. EDOCKET, EPA's electronic public docket and comment system, is EPA's preferred method for receiving comments. Follow the on-line instructions for submitting comments.

• E-mail: Comments may be sent by electronic mail (e-mail) to OWDocket@epa.gov. Attention Docket ID No. OW-2004-0039.

• Mail: Water Docket, Environmental Protection Agency, Mail Code 4101T, 1200 Pennsylvania Ave., NW., Washington, DC 20460, Attention Docket ID No. OW-2004-0039. Please include a total of three (3) copies.

• Hand Delivery: Environmental Protection Agency, EPA Docket Center, (EPA/DC) EPA West, Room B102, 1301 Constitution Ave., NW., Washington, DC. Attention Water Docket ID No. OW-2004-0039. Such deliveries are only accepted during the Docket's normal hours of operation, and special arrangements should be made for deliveries of boxed information.

Instructions: Direct your comments to Docket ID No. OW-2004-0039. EPA's policy is that all comments received will be included in the public docket without change and may be made available online at http://www.epa.gov/edocket, including any personal information provided, unless the comment includes information claimed to be Confidential Business Information (CBI) or other information whose disclosure is restricted by statute. Do not submit information that you consider to be CBI or otherwise protected through EDOCKET, regulations.gov, or e-mail. The EPA EDOCKET and the Federal regulations.gov Web sites are “anonymous access” systems, which means EPA will not know your identity or contact information unless you provide it in the body of your comment. If you send an e-mail comment directly to EPA without going through EDOCKET or regulations.gov, your e-mail address will be automatically captured and included as part of the comment that is placed in the public docket and made available on the Internet. If you submit an electronic comment, EPA recommends that you include your name and other contact information in the body of your comment and with any disk or CD ROM you submit. If EPA cannot read your comment due to technical difficulties and cannot contact you for clarification, EPA may not be able to consider your comment. Electronic files should avoid the use of special characters, any form of encryption, and be free of any defects or viruses. For additional information about EPA's public docket visit EDOCKET on-line or see the Federal Register of May 31, 2002 (67 FR 38102).

Docket: All documents in the docket are listed in the EDOCKET index at http://www.epa.gov/edocket. Although listed in the index, some information is not publicly available, i.e., CBI or other information whose disclosure is restricted by statute. Certain other material, such as copyrighted material, is not placed on the Internet and will be publicly available only in hard copy form. Publicly available docket materials are available either electronically in EDOCKET or in hard copy at the Water Docket in the EPA Docket Center, (EPA/DC) EPA West, Room B102, 1301 Constitution Ave., NW., Washington, DC. The Public Reading Room is open from 8:30 a.m. to 4:30 p.m., Monday through Friday, excluding legal holidays. The telephone number for the Public Reading Room is (202) 566-1744, and the telephone number for the Water Docket is (202) 566-2426.

FOR FURTHER INFORMATION CONTACT: For more information please contact Sarah Koppel by phone at (202) 564-3859, or by e-mail at koppel.sarah@epa.gov.

SUPPLEMENTARY INFORMATION:

I. General Information

A. What Should I Consider as I Prepare My Comments for EPA?

1. Submitting CBI. Do not submit this information to EPA through EDOCKET, regulations.gov or e-mail. Clearly mark the part or all of the information that you claim to be CBI. For CBI information in a disk or CD ROM that you mail to EPA, mark the outside of the disk or CD ROM as CBI and then identify electronically within the disk or CD ROM the specific information that is claimed as CBI). In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

i. Identify the action by docket number and other identifying information (subject heading, Federal Register date and page number).

ii. Follow directions—The agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns, and suggest alternatives.

vii. Explain your views as clearly as possible, avoiding the use of profanity or personal threats.

viii. Make sure to submit your comments by the comment period deadline identified.

B. Background of Final Revised Policy

On December 23, 2003, the Environmental Protection Agency (EPA) published a final memorandum in the Federal Register (68 FR 74233) that outlined its revised policy regarding regulatory requirements under the Safe Drinking Water Act (SDWA) for properties that submeter for water usage. Through the revised policy memorandum, as a way to promote full cost and conservation pricing to achieve water conservation, the EPA changed its long standing interpretation of SDWA section 1411 as it applies to submetered properties. Under the revised policy, a property owner who had not previously been (or would not be) subject to SDWA national primary drinking water regulations through SDWA section 1411, and who installs submeters to accurately track usage of water by tenants on his or her property, will not then be subject to SDWA regulations solely as a result of taking the action to submeter and bill. EPA took this action because the Agency believed that water submetering promotes water conservation. The data and information available to EPA in December of 2003 did not show that allocated billing systems, such as ratio utility billing systems (RUBS) and hot water hybrid (HWH) systems, would promote water conservation. Therefore, EPA did not include other billing systems in the final revised policy.

The findings of a new two-year study of water billing practices in the multi-family residential sector, released on August 30, 2004, show the water conservation benefits of submetering. The study was conducted by Aquacraft, Inc. of Boulder, Colorado, the National Research Center, and Potomac Resources. The study underwent extensive peer review and was sponsored by EPA, National Apartment Association, National Multi Housing Council, City of Austin, City of Phoenix, City of Portland, City of Tucson, Denver Water Department, East Bay Municipal Utility District, San Antonio Water System, San Diego County Water Authority, Seattle Public Utilities, and Southern Nevada Water Authority. A copy of the study can be accessed at EPA Docket ID No. OW-2004-0039. The study showed that “Submetering was found to achieve statistically significant water savings of 15.3 percent (21.8 gal/day/unit) compared to traditional in-rent properties after correcting for factors * * *” In addition, “This study found no evidence that Ratio Utility Billing Systems (RUBS) reduced water use by a statistically significant amount compared with traditional in-rent arrangements, and the data showed that the difference between water use in RUBS and in-rent properties was not statistically different from zero”.

The findings and recommendations of the study will help EPA and the drinking water industry better understand current mechanisms available to facilitate water conservation in multi-family housing. EPA strongly supports water conservation efforts, and encourages all actions to promote conservation by renters, homeowners, apartment owners, and water systems.

Dated: January 6, 2005.
Benjamin Grumbles,
Acting Assistant Administrator, Office of Water.

[FR Doc. 05-499 Filed 1-10-05; 8:45 am]

BILLING CODE 6560-50-P